DEPARTMENT OF AGRICULTURE

Food and Nutrition Service

Agency Information Collection Activities: Assessing Equity in Work Requirements and SNAP Employment & Training

AGENCY: Food and Nutrition Service, U.S. Department of Agriculture.

ACTION: Notice.

SUMMARY: In accordance with the Paperwork Reduction Act of 1995, this notice invites the general public and other public agencies to comment on this proposed information collection for the Assessing Equity in Work Requirements and SNAP [Supplemental Nutrition Assistance Program] Employment & Training study. This is a new information collection request. This study informs the U.S. Department of Agriculture's (USDA) Food and Nutrition Service (FNS) about feasible options for assessing and monitoring equity in the administration of SNAP work requirements and SNAP Employment and Training (E&T) services.

DATES: Written comments must be received on or before November 6, 2023.

ADDRESSES: Comments may be sent to Kristen Corey, USDA Food and Nutrition Service, Office of Policy Support, 1320 Braddock Place, Alexandria, VA 22314. Comments may also be submitted via email to Kristen.Corey@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kristen Corey at (703) 305-2517.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Assessing Equity in Work Requirements and SNAP Employment and Training.

Form Number: Not applicable.

OMB Number: 0584-NEW.

Expiration date: Not yet determined.

Type of request: New collection.

Abstract: Section 17 [7 U.S.C. 2026] (a)(1) of the Food and Nutrition Act of 2008, as amended, provides general legislative authority for the planned data collection. It authorizes the Secretary of Agriculture to enter into contracts with private institutions to undertake research that will help improve the administration and effectiveness of SNAP.

FNS is conducting this study to identify data available from SNAP State agencies, their E&T provider partners, and other sources that can be used to develop measures to assess equity in the administration of SNAP work requirements and E&T services. The developed measures can be used to determine how and whether States are providing equitable access to SNAP through the administration of work requirements, achieving equitable participation in education and training opportunities through the SNAP E&T program, and adopting program option and discretionary policies and procedures that influence disparities. FNS has identified four objectives for this study:

(1) Identify areas in the administration of work requirements in SNAP and in SNAP E&T program administration and access where equity issues could occur.

(2) Identify and describe the data that could be used to assess access and outcomes in the areas identified in Objective 1.

(3) Describe how State agencies address equity in administering work requirements in their SNAP and SNAP E&T programs.

(4) Develop recommendations on how FNS should assess and measure equity in the administration of work requirements in SNAP and in SNAP E&T program administration and access.

The study will gather data through a web-based survey and document review of all 53 SNAP State agencies and key informant interviews in six States. The web-based survey will provide information on current practices addressing equity and data available to assess equity. The web-based survey questions will be limited to those not answerable through the document review. The document review will include extant documents, manuals, guides, and other data sources from all 53 SNAP State agencies. We will identify nine SNAP State agencies and recruit as necessary to ensure the completion of key informant interviews in six States. The key informant interviews will include staff from each of the six study States at (1) the SNAP State agency office and (2) the SNAP local office; interviews will also include (3) SNAP E&T providers and (4) relevant interested parties, who may be government employees or representatives of academic and business interests (e.g., community-based organizations, community college consortium, American Job Centers). We will pretest the web-based survey with individuals with previous experience working in SNAP State agencies. We will pretest the key informant interviews with State and local office staff from a SNAP State agency not selected as a study State.

This study aligns with President Biden's January 20, 2021, Executive Order on Advancing Racial Equity and Support for Underserved Communities Through the Federal Government and the goal of equitable implementation of Federal programs.¹ These data will ultimately result in recommendations on how FNS can assess and measure equity in the administration of work requirements and SNAP E&T. The data collected will be kept private and will not be shared with anyone outside the study team and FNS research and administrative staff.

¹ The White House. (2021). Executive order on advancing racial equity and support for underserved communities through the Federal Government. https://www.whitehouse.gov/briefing-room/presidential-actions/2021/01/20/executive-order-advancing-racial-equity-and-support-for-underserved-communities-through-the-federal-government/.

Affected public: Members of the public affected by the data collection include State, local, and Tribal governments; business (for profit and not for profit); and individuals.

Respondent groups identified include the following:

(1) State, local, and Tribal government: The web-based survey will be completed by all 53 SNAP State agency Directors with input from SNAP E&T Directors and SNAP State agency data analysts who are familiar with SNAP data and data systems. Submission of files for document review will be completed by the SNAP State agency Directors and data analysts.

Staff from the SNAP State office, the SNAP local office, and an interested party will pretest the interview instruments. The key informant interviews will be conducted in the six study States with SNAP State agency Directors, State agency data analysts, SNAP E&T Directors, staff from two local offices, SNAP E&T providers, and interested parties, such as staff at American Job Centers.

(2) Business (for profit and not for profit): One SNAP E&T provider will pretest the interview instrument. SNAP E&T providers and interested parties, such as staff at community-based organizations from the six study States, will participate in key informant interviews.

(3) Individuals: Six individuals will pretest the web-based survey instrument.

Pretesting: We anticipate 100 percent participation from the respondents involved in pretesting the web-based survey and the key informant interview guides. Six individuals with previous experience working in SNAP State agencies will pretest the web-based survey. Key informant interview instruments will be pretested by one SNAP State Director, one local SNAP E&T administrator, one interested party, and one SNAP E&T provider.

Survey: We will contact all 53 SNAP State agency Directors to request that they complete the survey. FNS anticipates 100 percent participation from the SNAP State agency Directors. Each SNAP State agency Director may designate up to two staff to complete sections of the survey, accounting for up to an additional 106 State agency staff participating as respondents (159 SNAP State agency staff respondents total). This is the highest possible number of survey respondents.

Document review: When recruited for participation in the survey, SNAP State agencies will also be asked to submit documents for a document review; FNS anticipates 100 percent participation. We will reach out to 53 SNAP State agency Directors to submit documents; Directors will be assisted by one staff member (i.e., data analyst) to identify the necessary documents.

Key informant interviews: We will identify nine candidate States and conduct key informant interview in six States. The key informant interviews will involve semi-structured interviews with program administrators and staff of SNAP State agencies and SNAP local agencies, businesses or other agencies providing SNAP E&T services, and interested parties representing other government agencies or businesses. After FNS and the study team recruit the six States, FNS expects all selected local SNAP agencies, SNAP providers, and interested parties to participate.

Estimated number of respondents: The total estimated number of respondents is 264 as follows: 203 State, local, and Tribal government staff; 55 business (for profit and not for profit) staff; and 6 individuals. Of the 264 contacted, 264 are estimated to be responsive, and three are estimated to be nonresponsive. The breakout of respondents follows:

(1) State, local, and Tribal government staff: Of the 159 SNAP State agency staff contacted, 159 are estimated to be responsive, and three will be nonresponsive. The web-based survey will be completed by 53 SNAP State Directors, 53 data analysts, and 53 SNAP E&T Directors; we expect them all to be responsive. The submission of files for document review will be completed by 53 SNAP State Directors and 53 data analysts; we expect them all to be responsive. Before beginning key informant interviews, we will pretest the interview instruments with a SNAP State Director, a local SNAP E&T administrator, and an interested party working for the government; we expect them all to be responsive. We will conduct key informant interviews in six study States. To successfully recruit six study States, FNS and the study team will contact up to nine SNAP State Directors; six SNAP State Directors will agree to participate in the interviews and three will be nonresponsive. Other State staff joining the SNAP State Directors for the key informant interviews will be six data analysts and six SNAP E&T Directors, who will all be responsive, and zero will be nonresponsive. Other local government staff will include 12 local SNAP E&T administrators, 24 local office staff, and six interested parties working for the government will be contacted and be responsive; zero will be nonresponsive.

(2) Business (for profit and not for profit) staff: One SNAP E&T provider will be recruited to pretest the key informant interview instrument, and they will be responsive. Of the 48 SNAP E&T providers contacted for key informant interviews in the six study States, 48 are estimated to be responsive, and zero will be nonresponsive. Six interested parties employed by businesses will be contacted for key informant interviews; we expect all six to be responsive and zero to be nonresponsive.

(3) Individuals: Of the six individuals recruited to pretest the web-based survey, all six are estimated to be responsive, and zero will be nonresponsive.

Estimated number of responses per respondent: 3.67—based on 981 total annual responses (978 responsive and 3 nonresponsive) made by the 264 respondents (264 responsive and three nonresponsive). See table 1 for the estimated number of responses per respondent for each type of respondent.

The estimate breakout follows:

(1) State, local, and Tribal government staff:

(a) SNAP State Staff (159): The estimated number of responses per SNAP State staff is 4.23:

—Fifty-three SNAP State Directors will receive recruitment emails from FNS and the study team for the web-based survey. They will all respond and complete the web-based survey. The SNAP State Directors will coordinate with their staff to support the accurate completion of the survey; 53 data analysts and 53 SNAP E&T Directors will assist in the completion of the web-based survey.

—Fifty-three SNAP State Directors will respond to the request for the submission of files for document review, including reading advance materials and preparation of the files for submission. SNAP State Directors will coordinate with their staff to obtain the necessary files; 53 data analysts will assist in the preparation of documents.

—One SNAP State Director will be recruited and will pretest the key informant interview instrument that will be used with SNAP State office staff.

—Up to nine SNAP State Directors will receive and respond to an email invitation to participate in key informant interviews. SNAP State Directors in selected States will receive an introductory email from the study team and have a meeting to schedule interviews and ask questions. Of the up to nine SNAP State Directors, six will agree to participate in the virtual key informant interviews and up to three will decline to participate.

—Six SNAP E&T Directors and six data analysts will also participate in virtual key informant interviews.

(b) Local SNAP office staff (37): The estimated number of responses per local SNAP office staff is 2.97:

—One local SNAP E&T administrator will be recruited and will pretest the key informant interview instrument that will be used with SNAP local office staff.

—Twelve local SNAP E&T administrators will respond to scheduling and take part in virtual key informant interviews; 24 additional local SNAP office staff will take part in virtual key informant interviews.

(c) Non-SNAP State and local government agency staff (7): The estimated number of responses per non-SNAP State and local staff is 2.86:

—One interested party will be recruited and will pretest the key informant interview instrument that will be used with interested parties.

—Six interested parties employed by either State or local government agencies will respond to scheduling and take part in virtual key informant interviews.

(2) Business (for profit and not for profit) SNAP E&T providers (55): The estimated number of responses per business stakeholder staff is 2.98:

—One SNAP E&T provider will be recruited and will pretest the key informant interview instrument that will be used with E&T providers.

—Forty-eight business E&T provider staff will respond to scheduling and participate in virtual key informant interviews.

—Six interested parties employed by a for-profit or not-for-profit business will respond to scheduling and participate in virtual key informant interviews.

(3) Individuals (6): The estimated number of responses per individuals is 2.00:

—Six individuals will be recruited and will pretest the web-based survey that will be administered to all 53 SNAP State agencies.

Estimated total frequency response per respondent. FNS anticipates 3.67 responses per respondent.

Estimated total annual responses: 981 (978 annual responses for responsive participants and 3 annual responses for nonresponsive participants).

Estimated time per response: 0.3796 hours (0.38 hours for responsive participants and 0.25 hours for nonresponsive participants). Among respondents, the estimated time of response varies from 0.03 hours to 1.50 hours depending on respondent group and activity, as table 1 shows.

Estimated total annual burden on respondents and nonrespondents: 372.41 hours (371.66 hours for responsive participants and 0.75 hours for nonresponsive participants). See table 1 for estimated total annual burden for each type of respondent.

Tameka Owens,
Acting Administrator, Food and Nutrition Service.

BILLING CODE 3410-30-P

[FR Doc. 2023-19113 Filed 9-5-23; 8:45 am]

BILLING CODE 3410-30-C